DEPARTMENT OF TRANSPORTATION

Federal Aviation Administration

[Summary Notice No. 2016-106]

Petition for Exemption; Summary of Petition Received

AGENCY: Federal Aviation Administration (FAA), DOT.

ACTION: Notice.

SUMMARY: This notice contains a summary of a petition seeking relief from specified requirements of Title 14 of the Code of Federal Regulations. The purpose of this notice is to improve the public's awareness of, and participation in, the FAA's exemption process. Neither publication of this notice nor the inclusion or omission of information in the summary is intended to affect the legal status of the petition or its final disposition.

DATES: Comments on this petition must identify the petition docket number and must be received on or before November 14, 2016.

ADDRESSES: Send comments identified by docket number FAA-2016-9152 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT: For technical questions concerning this action, contact Nancy Lauck Claussen, Air Transportation Division, AFS-200, Federal Aviation Administration, 800 Independence Avenue SW., Washington, DC 20591; telephone 202-267-8166; email: nancy.l.claussen@faa.gov.

This notice is published pursuant to 14 CFR 11.85.

Issued in Washington, DC, on October 24, 2016.
Dale Bouffiou,
Deputy Director, Office of Rulemaking.

Petition for Exemption

Docket No.: FAA-2016-9152.

Section(s) of 14 CFR Affected: 14 CFR 121.153(a)(2) and 121.311 (a), (b) and (j).

Description of Relief Sought: The petitioner requests relief to the extent required for an individual to use an Orthotic Positioning Device (OPD) during all phases of flight while aboard a United States-registered aircraft in an aircraft seat with an inflatable seat belt while the inflatable seat belt is deactivated. Due to physical challenges, without an exemption, this individual would be unable to fly in a way that accommodates his disability. This exemption would also provide this individual an equivalent level of safety to that of other passengers because a deactivated inflatable seat belt used as the primary method of restraint, in conjunction with the internal 5-point harness in an OPD, would provide an equivalent level of safety to that of the affected regulations regarding forward occupant excursion.

[FR Doc. 2016-26433 Filed 11-1-16; 8:45 am]

BILLING CODE 4910-13-P